DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Special Census Program.

OMB Control Number: 0607-0368.

Form Number(s):

SC-1, Special Census Enumerator Questionnaire—This interview form will be used to collect special census data at regular housing units (HU), and eligible units in Transitory Locations (TL) such as RV parks, marinas, campgrounds, hotels or motels.

SC-1 (SUPP), Special Census Enumeration Continuation Questionnaire—This interview form will be used to collect special census data at a regular HU or eligible units in a TL, when there are more than five members in a household.

SC-1 (Phone/WYC), Special Census Phone/WYC Questionnaire—This interview form will be used to collect special census data when a respondent calls the local Special Census Office.

SC-2, Special Census Individual Census Report—This interview form will be used to collect special census data at group quarters (GQ) such as hospitals, prisons, boarding and rooming houses, college dormitories, military facilities, and convents.

SC-3 (RI), Special Census Enumeration Reinterview Form—This interview form is a quality assurance form used by enumerators to conduct an independent interview at a sample of HUs. Special Census office staff will compare the data collected on this form with the original interview to make sure the original enumerator followed procedures.

SC-116, Special Census Group Quarters (GQ) Enumeration Control Sheet—This form will be used by Special Census enumerators to list residents/clients at GQs.

SC-117, Special Census Transitory Locations (TL) Enumeration Record—This form will be used by Special Census office staff to collect contact information for TLs, to schedule interviews for the TLs, to determine the type of TL, and to estimate the number of interviews to be conducted at the TL.

SC-351, Special Census Group Quarters (GQ) Initial Contact Checklist—This checklist will be used by enumerators to collect GQ contact information and to determine the type of GQ.

SC-920, Special Census Address Listing Page—This form will list existing addresses from the Census Bureau's Master Address File (MAF). Special Census enumerators will update these addresses, if needed, at the time of enumeration.

SC-901, Special Census Address Listing Notes Page—This form will be used by the enumerator to write notes about any extenuating circumstances regarding the listing of an address found on the SC-920, Address Listing Page. The Enumerator will used the line number from the Address Listing page and note any issues encountered that might need further explanation regarding the unit/address.

SC-921(HU), Special Census Housing Unit Add Page—This form will be used by enumerators to add housing units (HUs) that are observed to exist on the ground, that are not contained on the address listing page.

SC-921(GQ), Special Census Group Quarter Add Page—This form will be used by enumerators to add Group Quarters (GQs) that are observed to exist on the ground, that are not contained on the address listing page.

SC-921(TU), Special Census Transitory Unit Add Page—This form will be used by enumerators to add Transitory Units (e.g., hotels, motels, RV parks, marinas) that are observed to exist on the ground, that are not contained on the address listing page.

SC-1(F), Special Census Information Sheet—This sheet contains the Confidentiality Notice and the Flash Card information for use at Housing Units. The Confidentiality Notice is required by the Privacy Act of 1974. The Flash Card portion of the Information Sheet shows the set of flashcards that will be shown to respondents as an aid in answering certain questions. Special Census field staffs are required by law to give an Information Sheet to each person from whom they request census-related information.

SC-31/SC-31(S), Special Census Group Quarters Information Sheet—This sheet contains the Confidentiality Notice and the Flash Card information for use at Group Quarters. The Confidentiality Notice is required by the Privacy Act of 1974. The Flash Card portion of the Information Sheet shows the set of flashcards that will be shown to respondents as an aid in answering certain questions. Special Census field staffs are required by law to give an Information Sheet to each person from whom they request special census related information.

SC-26, Special Census Notice of Visit Form—This form is the form that enumerators will leave at addresses where they are not able to make contact. The notice indicates that a special census enumerator was there and will return to conduct an interview. It also provides a telephone number that the respondent can use to contact the enumerator and/or the Special Census Office.

SC-3309, Language Identification Flashcard—This form will be used by enumerators to identify the language spoken by a respondent when a language barrier is encountered.

Type of Request: Regular Submission.

Number of Respondents: 248,430.

Average Hours per Response: Based on previous experience with special censuses and the fact that the Special Census forms and procedures are very similar to (and in many cases exactly the same as) those used in the 2010 Decennial Census, we estimate burden hours as shown below. Please note that the burden hours in the Federal Register notice published on September 2, 2015 in pages 53102 and 53103 are incorrect due to a calculation error. The burden hours below are the correct burden hours for special census respondents.

SC-1 or, Special Census Enumerator Questionnaire.

SC-1 (Phone/WYC)—248,430 respondents × 10 min. = 41,405 hours.

SC-1(SUPP), Continuation Questionnaire—10,000 respondents × 1.75 min. = 292 hour.

SC-2, Individual Census Report—8,333 respondents × 5 min. = 695 hours.

SC-3(RI), Enumeration Reinterview Questionnaire—55,000 respondents × 7 min. = 6,417 hours.

SC-116, Group Quarters Enumeration Control Sheet—42 respondents × 10 min. = 7 hours.

SC-117, Transitory Location Enumeration Record—42 respondents × 10 min. = 7 hours.

SC-351, Initial Contact Checklist (Group Quarters)—42 respondents × 10 min. = 7 hours.

SC-920, Address Listing Page—200,000 respondents × 1 min. = 3,334 hours.

SC-921(HU), Housing Unit Add Page—50,000 respondents × 1 min. = 834 hours.

SC-921(GQ), Group Quarters/Transitory Unit Add Page.

SC-921(TU)—13 respondents × 1 min. = .22 hour.

Estimated total annual burden = 52,998 hours.

Burden Hours: 52,998.

Needs and Uses: Local jurisdictions determine the need for and uses of their special census data. Some governmental units request a special census for proper infrastructure planning and others make a request because they must have the updated data to qualify for some sources of funding. Local governmental units use special census data to apply for available funds from both the state and Federal governments. Many states distribute these funds based on Census Bureau population statistics. This fact, along with local population shifts or annexations of territory, prompts local officials to request special censuses. In addition, special census data are used by the local jurisdictions to plan new schools, transportation systems, housing programs, water treatment facilities, etc.

The Census Bureau also uses special census data as part of its local population estimates calculation and to update the Census Bureau's Master Address File (MAF) and Topographically Integrated Geographic Encoding and Referencing (TIGER) System.

Information quality is an integral part of the pre-dissemination review of the Information disseminated by the Census Bureau (fully described in the Census Bureau's Information Quality Guidelines). Information quality is also integral to the information collections conducted by the Census Bureau and is incorporated into the clearance process required by the Paperwork Reduction Act.

Affected Public: The Census Bureau will establish a reimbursable agreement with a variety of potential special census customers that are unknown at this time. The Special Census Program will include a library of standard forms that will be used for the Special Censuses we anticipate conducting throughout this decade. While no additional documentation will be provided to OMB in advance of conducting any Special Census which utilizes the library of standard forms, any deviation from the standard forms, such as an additional question requested by a specific governmental unit, will be forwarded to OMB for approval. In addition, the Special Census program will provide OMB an annual report summarizing the activity for the year.

Frequency: One time.

Respondent's Obligation: Voluntary.

Legal Authority: Title 13, United States Code, Section 196.

This information collection request may be viewed at www.reginfo.gov. Follow the instructions to view Department of Commerce collections currently under review by OMB.

Written comments and recommendations for the proposed information collection should be sent within 30 days of publication of this notice to OIRA_Submission@omb.eop.gov or fax to (202) 395-5806.

Dated: November 17, 2015.
Glenna Mickelson,
Management Analyst, Office of the Chief Information Officer.

[FR Doc. 2015-29651 Filed 11-19-15; 8:45 am]

BILLING CODE 3510-07-P